DEPARTMENT OF TRANSPORTATION

Federal Highway Administration

Notice of Final Federal Agency Actions on Proposed Highway in Utah

AGENCY: Federal Highway Administration (FHWA), DOT.

ACTION: Notice of Limitation of Claims for Judicial Review of Actions by FHWA and Other Federal Agencies.

SUMMARY: This notice announces actions taken by the FHWA that are final within the meaning of 23 U.S.C. 139(l)(1). The actions relate to the proposed I-15; 24th Street Interchange project in Weber County in the State of Utah. These actions grant approvals for the project.

DATES: By this notice, the FHWA is advising the public of final agency actions subject to 23 U.S.C. 139(l)(1). A claim seeking judicial review of the FHWA actions on the highway project will be barred unless the claim is filed on or before September 15, 2014. If the Federal law that authorizes judicial review of a claim provides a time period of less than 150 days for filing such claim, then that shorter time period still applies.

FOR FURTHER INFORMATION CONTACT: Mr. Paul Ziman, Area Engineer, Region 1, FHWA Utah Division, 2520 West 4700 South, Suite 9A, Salt Lake City, Utah 84129; telephone: 801-955-3525; email: paul.ziman@dot.gov. The FHWA Utah Division Office's normal business hours are 7:30 a.m. to 4:30 p.m. (Mountain Standard Time), Monday through Friday, except Federal holidays.

SUPPLEMENTARY INFORMATION: Notice is hereby given that the FHWA has taken final agency action subject to 23 U.S.C. 139(l)(1) by issuing licenses, permits, and approvals for the I-15; 24th Street Interchange project in the State of Utah. The I-15; 24th Street Interchange project proposes to provide transportation improvements at and around I-15 at the 24th Street exit in Weber County, Utah. The project consists of the following improvements: Construct an I-15 northbound on-ramp and a southbound off-ramp from 24th Street in a modified diamond configuration, where the southbound off-ramp is located on 2550 South, and the southbound on-ramp is located on Pennsylvania Avenue; construct northbound and southbound auxiliary lanes on I-15 between the 24th Street and 21st Street Interchanges; widen 24th Street from two lanes to four lanes from the planned intersection of 2550 South and Pennsylvania Avenue to 900 West; restripe 2550 South from two lanes to three lanes; construct a new alignment to the southeast of Midland Drive at Pennsylvania Avenue connecting to the intersection of 1900 West and Midland Drive comprised of four lanes, a center turn lane, paved shoulders, curb, gutter, parkstrip, and sidewalk; realign the access road for the Northern Utah Community Correctional Center to avoid conflicts with the northbound I-15 on-ramp; remove the railroad tracks beneath I-15 at 24th Street and construct additional track on Midland Drive and north of 24th Street. The actions by the FHWA and the laws under which such actions were taken are described in the Environmental Assessment (EA) and Section 4(f) Evaluation and in the Finding of No Significant Impact (FONSI) issued on December 6, 2013.

This notice applies to all FHWA decisions as of the issuance date of this notice and all laws under which such actions were taken. Laws generally applicable to such actions include but are not limited to:

1. General: National Environmental Policy Act (NEPA) [42 U.S.C. 4321-4351; Federal-Aid Highway Act [23 U.S.C. 109].

2. Wildlife: Endangered Species Act [16 U.S.C. 1531-1544 and 1536]; Fish and Wildlife Coordination Act [16 U.S.C. 661-667(d); Migratory Bird Treaty Act [16 U.S.C. 703-712].

3. Cultural Resources: Section 106 of the National Historic Preservation Act of 1966, as amended [16 U.S.C. 470(f) et seq.]; Archaeological and Historic Preservation Act [16 U.S.C. 469-469(c)]; Archaeological Resources Protection Act of 1977 [16 U.S.C. 470(aa)-11].

4. Noise: Federal-Aid Highway Act of 1970 [Pub. L. 91-605, 84 Stat. 1713].

5. Executive Orders: E.O. 11593 Protection and Enhancement of Cultural Resources; E.O. 13287 Preserve America.

(Catalog of Federal Domestic Assistance Program Number 20.205, Highway Planning and Construction. The regulations implementing Executive Order 12372 regarding intergovernmental consultation on Federal programs and activities apply to this program.)

Authority: 23 U.S.C. 139(l)(1)

Issued on: April 9, 2014.
Ivan Marrero,
Division Administrator.

[FR Doc. 2014-08735 Filed 4-17-14; 8:45 am]

BILLING CODE 4910-22-P